DEPARTMENT OF DEFENSE

Office of the Secretary

Renewal of Department of Defense Federal Advisory Committees

AGENCY: DoD.

ACTION: Renewal of Federal Advisory Committee.

SUMMARY: Under the provisions of 20 U.S.C. 929, the Federal Advisory Committee Act of 1972 (5 U.S.C. Appendix), the Government in the Sunshine Act of 1976 (5 U.S.C. 552b), and 41 CFR 102-3.50(a), the Department of Defense gives notice that it is renewing the charter for the Advisory Council on Dependents' Education (hereafter referred to as “the Council”). The Council shall provide independent advice and recommendations on the Department of Defense (DoD) dependents' education system.

The Council is a non-discretionary federal advisory committee that shall provide independent advice and recommendations to the Director, Department of Defense Education Activity on the following:

a. General policies for operation of the DoD dependents' education system with respect to curriculum selection, administration, and operation of the system;

b. Information from other federal agencies concerned with Primary and secondary education with respect to education programs and practices which such agencies have found to be effective and which should be considered for inclusion in the DoD dependents' education system;

c. The design of the study and the selection of the contractor referred to in 20 U.S.C. § 930(a)(2); and

d. Other tasks as may be required by the Secretary of Defense.

The Council shall report to the Director, Department of Defense Education Activity. Matters outside the legal purview of the Director, Department of Defense Education Activity shall be referred to Secretary of Defense and the Under Secretary of Defense for Personnel and Readiness as appropriate. The Director, Department of Defense Education Activity may act upon the Council's advice and recommendations.

The Council, pursuant to 20 U.S.C. 929(a), shall be comprised of no more than 16 members who have demonstrated an interest in the field of primary or secondary education and the following individuals:

a. The Secretary of Defense and the Secretary of Education or their respective designees;

b. Twelve appointed individuals who demonstrated an interest in the field of primary or secondary education, and who shall include representatives of professional employee organization, school administrators, parents of students enrolled in the DoD dependents' education system, and one student enrolled in such system; and

c. A representative of the Secretary of Defense and of the Secretary of Education.

The twelve Council members appointed under the authority of 20 U.S.C. 929(a)(1)(B), shall be appointed jointly by the Secretary of Defense and the Secretary of Education.

The Secretary of Defense and the Secretary of Education may approve the appointment of individuals appointed pursuant to 20 U.S.C. 929(a)(1)(B) for one to four year terms of service; however, no member appointed pursuant to 20 U.S.C. 929(a)(1)(B), unless authorized by the Secretary of Defense and the Secretary of Education, may serve more than two consecutive terms of service. This same term of service limitation also applies to any DoD authorized subcommittees.

Members appointed to the Council from professional employee organizations, pursuant to 20 U.S.C. 929(a)(2), shall be individuals designated by those organizations and shall serve three year terms of service, not to exceed two full terms on the Council.

Any member appointed to fill a vacancy occurring before the expiration of the term for which his predecessor was appointed shall be appointed for the remainder of such term.

Council members, who are not full-time or permanent part-time federal officers or employees, shall be appointed to serve as experts and consultants under the authority of 5 U.S.C. 3109 and shall serve as special government employee members. Council members serving as special government employees shall have their appointments renewed on an annual basis.

Pursuant to 20 U.S.C. 929(d), members of the Council who are not full-time or permanent part-time employees of the federal government, shall while attending meetings or conferences of the Council or otherwise engaged in the business of the Council, be entitled to compensation at the daily equivalent of the rate specified at the time of such service for level IV of the Executive Services under 5 U.S.C. 5315. All Council members, while on official travel, shall be entitled to compensation for travel and per diem.

The Secretary of Defense and the Secretary of Education, or their designated representatives, shall serve as the Council's Co-Chairs.

The Director, Department of Defense Education Activity shall be the Executive Secretary of the Council, but shall not vote on matters before the Council.

Each Council member is appointed to provide advice on behalf of the government on the basis of his or her best judgment without representing any particular point of view and in a manner that is free from conflict of interest.

The Department, when necessary, and consistent with the Council's mission and DoD policies and procedures, may establish subcommittees deemed necessary to support the Council. Establishment of subcommittees will be based upon a written determination, to include terms of reference, by the Secretary of Defense, the Deputy Secretary of Defense or the advisory council's sponsor.

Such subcommittees shall not work independently of the chartered Council, and shall report all their recommendations and advice to the Council for full deliberation and discussion. Subcommittees have no authority to make decisions on behalf of the chartered Council; nor can any subcommittee or its members update or report directly to the DoD or any Federal officers or employees. Subcommittees shall comply with FACA.

All subcommittee members shall be appointed in the same manner as the Council members; that is, the Secretary of Defense shall appoint subcommittee members even if the member in question is already a Council member. Subcommittee members, with the approval of the Secretary of Defense, may serve a term of service on the subcommittee of one to four years; however, no member shall serve more than two consecutive terms of service on the subcommittee.

Subcommittee members, if not full-time or part-time government employees, shall be appointed to serve as experts and consultants under the authority of 5 U.S.C. 3109, and shall serve as special government employees, whose appointments must be renewed by the Secretary of Defense on an annual basis.

Subcommittee members who are not full-time or permanent part-time employees of the federal government, shall while attending meetings or conferences of the Council or otherwise engaged in the business of the Council, be entitled to compensation at the daily equivalent of the rate specified at the time of such service for level IV of the Executive Services under 5 U.S.C. 5315. All subcommittee members, while on official travel, shall be entitled to compensation for travel and per diem.

All subcommittees operate under the provisions of FACA, the Government in the Sunshine Act of 1976 (5 U.S.C. 552b), governing Federal statutes and regulations, and governing DoD policies/procedures.

FOR FURTHER INFORMATION CONTACT: Jim Freeman, Advisory Committee Management Officer for the Department of Defense, 703-692-5952.

SUPPLEMENTARY INFORMATION: The Council shall meet at the call of the Council's Designated Federal Officer, in consultation with the Council's Co-Chairs. Pursuant to 20 U.S.C. 929(c), the Council shall meet at least two times each year.

In addition, the Designated Federal Officer is required to be in attendance at all Council and subcommittee meetings for the entire duration of each and every meeting; however, in the absence of the Designated Federal Officer, a properly approved Alternate Designated Federal Officer shall attend the entire duration of the Council or subcommittee meeting.

The Designated Federal Officer, or the Alternate Designated Federal Officer, shall call all of the Council's and subcommittees' meetings; prepare and approve all meeting agendas; adjourn any meeting when the Designated Federal Officer, or the Alternate Designated Federal Officer, determines adjournment to be in the public interest or required by governing regulations or DoD policies/procedures; and chair meetings when directed to do so by the official to whom the Council reports.

Pursuant to 41 CFR 102-3.105(j) and 102-3.140, the public or interested organizations may submit written statements to Advisory Council on Dependents' Education membership about the Council's mission and functions. Written statements may be submitted at any time or in response to the stated agenda of planned meeting of Advisory Council on Dependents' Education.

All written statements shall be submitted to the Designated Federal Officer for the Advisory Council on Dependents' Education, and this individual will ensure that the written statements are provided to the membership for their consideration. Contact information for the Advisory Council on Dependents' Education Designated Federal Officer can be obtained from the GSA's FACA Database— https://www.fido.gov/facadatabase/public.asp.

The Designated Federal Officer, pursuant to 41 CFR 102-3.150, will announce planned meetings of the Advisory Council on Dependents' Education. The Designated Federal Officer, at that time, may provide additional guidance on the submission of written statements that are in response to the stated agenda for the planned meeting in question.

Dated: April 16, 2012.
Aaron Siegel,
Alternate OSD Federal Register Liaison Officer, Department of Defense.

[FR Doc. 2012-9424 Filed 4-18-12; 8:45 am]

BILLING CODE 5001-06-P